DEPARTMENT OF COMMERCE

National Oceanic and Atmospheric Administration

[RTID 0648-XB250]

Endangered Species; File No. 25602

AGENCY: National Marine Fisheries Service (NMFS), National Oceanic and Atmospheric Administration (NOAA), Commerce.

ACTION: Notice; receipt of application.

SUMMARY: Notice is hereby given that Coonamessett Farm Foundation, Inc., 277 Hatchville Road, East Falmouth, MA 02536 (Responsible Party: Ronald Smolowitz), has applied in due form for a permit to take leatherback sea turtles (Dermochelys coriacea) and unidentified sea turtles for purposes of scientific research.

DATES: Written, telefaxed, or email comments must be received on or before August 19, 2021.

ADDRESSES: The application and related documents are available for review by selecting “Records Open for Public Comment” from the “Features” box on the Applications and Permits for Protected Species (APPS) home page, https://apps.nmfs.noaa.gov, and then selecting File No. 25602 from the list of available applications. These documents are also available upon written request via email to NMFS.Pr1Comments@noaa.gov.

Written comments on this application should be submitted via email to NMFS.Pr1Comments@noaa.gov. Please include File No. 25602 in the subject line of the email comment.

Those individuals requesting a public hearing should submit a written request via email to NMFS.Pr1Comments@noaa.gov. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to determine the impacts of impulsive sounds on the behavior of leatherback sea turtles within Massachusetts waters and adjacent Federal waters. Researchers would (1) remotely deploy suction cup camera tags on 30 leatherbacks annually, (2) observe and film them from an aircraft, vessel, and underwater by polecam, (3) remotely scan them in-water for passive integrated transponder (PIT) tags, and (4) expose them to an underwater sound source. Up to 60 leatherbacks annually could be harassed during unsuccessful tag deployments or incidental sound exposure. Another 60 leatherbacks annually would be observed during aerial and vessel surveys, photographed, and remotely PIT tag scanned. Researchers also request to harass up to 30 unidentified sea turtles annually for incidental sound exposures. The permit would be valid for five years.

Dated: July 13, 2021.
Julia Marie Harrison,
Chief, Permits and Conservation Division, Office of Protected Resources, National Marine Fisheries Service.

[FR Doc. 2021-15353 Filed 7-19-21; 8:45 am]

BILLING CODE 3510-22-P